DEPARTMENT OF TRANSPORTATION

Federal Aviation Administration

14 CFR Part 39

[Docket No. FAA-2005-20797; Directorate Identifier 2004-NM-256-AD]

RIN 2120-AA64

Airworthiness Directives; McDonnell Douglas Model DC-8-11, DC-8-12, DC-8-21, DC-8-31, DC-8-32, DC-8-33, DC-8-41, DC-8-42, and DC-8-43 Airplanes; Model DC-8F-54 and DC-8F-55 Airplanes; Model DC-8-50, -60, -60F, -70, and -70F Series Airplanes; Model DC-9-10, -20, -30, -40, and -50 Series Airplanes; Model DC-9-81 (MD-81), DC-9-82 (MD-82), DC-9-83 (MD-83), and DC-9-87 (MD-87) Airplanes; and Model MD-88 Airplanes

AGENCY: Federal Aviation Administration (FAA), Department of Transportation (DOT).

ACTION: Notice of proposed rulemaking (NPRM).

SUMMARY: The FAA proposes to supersede an existing airworthiness directive (AD) that applies to certain McDonnell Douglas airplanes, as listed above. The existing AD currently requires an initial general visual or dye penetrant inspection, repetitive dye penetrant inspections, and replacement, as necessary, of the rudder pedal bracket. This proposed AD would also require, for certain airplanes, replacing the rudder pedal bracket assemblies with new, improved parts, which would terminate the repetitive inspections. This proposed AD is prompted by a report of numerous cracked rudder pedal brackets found during inspections of certain affected airplanes. We are proposing this AD to prevent failure of the rudder pedal bracket assembly, which could result in the loss of rudder and braking control at either the captain's or first officer's position.

DATES: We must receive comments on this proposed AD by May 20, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street SW., room PL-401, on the plaza level of the Nassif Building, Washington, DC. This docket number is FAA-2005-20797; the directorate identifier for this docket is 2004-NM-256-AD.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION:

Comments Invited

We invite you to submit any relevant written data, views, or arguments regarding this proposed AD. Send your comments to an address listed under ADDRESSES. Include “Docket No. FAA-2005-20797; Directorate Identifier 2004-NM-256-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On June 9, 1989, we issued AD 89-14-02, amendment 39-6245 (54 FR 27156, June 28, 1989), for certain McDonnell Douglas Model DC-8, DC-9 and C-9 (Military) series airplanes, including Model DC-9-80 series airplanes and Model MD-88 airplanes. That AD requires an initial general visual or dye penetrant inspection, repetitive dye penetrant inspections, and replacement, as necessary, of the rudder pedal bracket. That AD was prompted by several reports of fatigue failures in the captain's rudder pedal bracket assembly on Model DC-9 series airplanes. We issued that AD to prevent failure of the rudder pedal bracket assembly, which could result in the loss of rudder and braking control at either the captain's or first officer's position.

Actions Since Existing AD Was Issued

The Air Transport Association (ATA) of America and the Aerospace Industries Association (AIA) of America agreed to undertake the task of identifying and implementing procedures to ensure the continued structural airworthiness of aging transport category airplanes. An Airworthiness Assurance Working Group (AAWG) was established in August 1988, with members representing aircraft manufacturers, operators, regulatory authorities, and other aviation industry representatives worldwide. The objective of the AAWG was to sponsor “Steering Task Groups (STG)” to:

1. Select service bulletins, applicable to each airplane model in the transport fleet, to be recommended for mandatory modification of aging airplanes;

2. Develop corrosion-directed inspections and prevention programs;

3. Review the adequacy of each operator's structural maintenance program;

4. Review and update the Supplemental Inspection Documents (SID); and

5. Assess repair quality.

Based on the results of this review, the DC-9 STG for Model DC-9-10, -20, -30, -40, and -50 series airplanes; Model DC-9-81 (MD-81), DC-9-82 (MD-82), DC-9-83 (MD-83), and DC-9-87 (MD-87) airplanes; and Model MD-88 airplanes; has determined that for these airplanes, further corrective action is necessary to prevent failure of the rudder pedal bracket assembly, which could result in the loss of rudder and braking control at either the captain's or first officer's positions.

In addition, we have received a report of numerous cracked rudder pedal brackets found during inspections of Model DC-9-10, -20, -30, -40, and -50 series airplanes; Model DC-9-81 (MD-81), DC-9-82 (MD-82), DC-9-83 (MD-83), and DC-9-87 (MD-87) airplanes; and Model MD-88 airplanes.

AD 89-14-02 does not provide a terminating action for these certain airplanes and instead requires repetitive inspections after the replacement of the rudder pedal bracket assemblies. Since operators could fly these airplanes another 40,000 landings after the replacement of the rudder pedal bracket assemblies, new, improved parts made of aluminum casting were developed to address the unsafe condition of AD 89-14-02.

We have determined we can better ensure long-term continued operational safety by modifications or design changes to remove the source of the problem, rather than by repetitive inspections. Therefore, for certain airplanes, the proposed AD would require replacement of the rudder pedal bracket assemblies with new, improved parts made of aluminum casting, which would terminate the repetitive inspections. The proposed AD would require that the replacement with new, improved parts be accomplished before the accumulation of 75,000 total landings on a rudder pedal bracket assembly, or within 60 months after the effective date of this AD, whichever occurs later.

We have also determined that the other affected Model DC-8-11, DC-8-12, DC-8-21, DC-8-31, DC-8-32, DC-8-33, DC-8-41, DC-8-42, and DC-8-43 airplanes; Model DC-8F-54 and DC-8F-55 airplanes; and Model DC-8-50, -60, -60F, -70, and -70F series airplanes in AD 89-14-02 do not require replacement of rudder pedal bracket assemblies with new, improved parts made of aluminum casting. Replacement with a new part having the same part number, if cracks are detected, is sufficient in addressing the unsafe condition of this proposed AD, since these airplanes are not expected to fly another 40,000 landings after the replacement.

Relevant Service Information

We have reviewed McDonnell Douglas Alert Service Bulletin A27-307,

Revision 6, dated December 19, 1994. The service bulletin describes procedures for replacing the captain's and first officer's rudder pedal bracket assemblies with parts having the same part number; or replacing with new, improved parts, which ends the repetitive inspections for McDonnell Douglas Model DC-9-10, -20, -30, -40, and -50 series airplanes; Model DC-9-81 (MD-81), DC-9-82 (MD-82), DC-9-83 (MD-83), DC-9-87 (MD-87) airplanes; and Model MD-88 airplanes. Accomplishing the actions specified in the service information is intended to adequately address the unsafe condition.

FAA's Determination and Requirements of the Proposed AD

The unsafe condition described previously is likely to exist or develop on other airplanes of the same type design that may be registered in the U.S. at some time in the future. We are proposing to supersede AD 89-14-02. This proposed AD would retain the requirements of the existing AD. This proposed AD would also require, for certain airplanes, accomplishing the actions specified in the service bulletin described previously, except as discussed under “Differences Between the Proposed AD and Service Bulletin.”

Differences Between Proposed Rule and Service Bulletin

This proposed AD would require replacement of the rudder pedal bracket assemblies with new, improved parts, which would terminate the repetitive inspections. The service bulletin provides the termination action as an option.

The service bulletin does not recommend a compliance time for accomplishing the terminating action (replacement is on-condition). This proposed AD, however, would require operators to accomplish, for certain airplanes, the terminating action before the accumulation of 75,000 total landings on a rudder pedal bracket assembly, or within 60 months after the effective date of this AD, whichever occurs later.

Changes to Existing AD

This proposed AD would retain all requirements of AD 89-14-02. Since AD 89-14-02 was issued, the AD format has been revised, and certain paragraphs have been rearranged. As a result, the corresponding paragraph identifiers have changed in this proposed AD, as listed in the following table:

Revised Paragraph Identifiers
Requirement in AD 89-14-02 | Corresponding requirement in this proposed AD
paragraph A | paragraph (f).
paragraph B | paragraph (g).

We have also changed all references to any “visual inspection” in AD 89-14-02 to “general visual inspection” in this proposed AD and added a note to clarify the definition of a general visual inspection.

In this proposed AD, we have also revised the applicability of AD 89-14-02 to identify model designations as published in the most recent type certificate data sheet for the affected models.

We have clarified the compliance time in paragraphs (f) and (g) of this AD to specify 40,000 total landings.

Costs of Compliance

There are about 2,025 airplanes of the affected design in the worldwide fleet. The following table provides the estimated costs for U.S. operators to comply with this proposed AD. The new replacements of this proposed AD are applicable only to Model DC-9-10, -20, -30, -40, and -50 series airplanes; Model DC-9-81 (MD-81), DC-9-82 (MD-82), DC-9-83 (MD-83), and DC-9-87 (MD-87) airplanes; and Model MD-88 airplanes.

Estimated Costs
Action | Work hours | Average labor rate per hour | Parts | Cost per airpalne | Number of fleet U.S.-registered airplanes | Fleet cost
General visual inspection (required by AD 89-14-02) | 3 | $65 | None | $195 | 1,381 | $269,295.
Dye penetrant inspection (required by AD 89-14-02) | 5 | 65 | None | 325, per inspection cycle | 1,381 | 448,825, per inspection cycle.
Replacements (new proposed action) | 9 | 65 | $5,320 | 5,905 | 1,131 | 6,678,555.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-6245 (54 FR 27156, June 28, 1989) and adding the following new airworthiness directive (AD):

McDonnell Douglas: Docket No. FAA-2005-20797; Directorate Identifier 2004-NM-256-AD.

Comments Due Date

(a) The Federal Aviation Administration must receive comments on this AD action by May 20, 2005.

Affected ADs

(b) This AD supersedes AD 89-14-02, amendment 39-6245 (54 FR 27156, June 28, 1989).

Applicability

(c) This AD applies to the airplanes listed in Table 1 of this AD, certificated in any category.

Table 1.—Applicability
McDonnell Douglas | As identified in
Model DC-8-11, DC-8-12, DC-8-21, DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes | McDonnell Douglas Alert Service Bulletin A27-273, dated May 16, 1989.
Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; DC-9-81 (MD-81), DC-9-82 (MD-82), DC-9-83 (MD-83), and DC-9-87 (MD-87) airplanes; and Model MD-88 airplanes | McDonnell Douglas Alert Service Bulletin Model A27-307, Revision 6, dated December 19, 1994.

Unsafe Condition

(d) This AD was prompted by a report of numerous cracked rudder pedal brackets found during inspections of certain affected airplanes. We are issuing this AD to prevent failure of the rudder pedal bracket assembly, which could result in the loss of rudder and braking control at either the captain's or first officer's position.

Compliance

(e) You are responsible for having the actions required by this AD performed within the compliance times specified, unless the actions have already been done.

Requirements of AD 89-14-02

(f) Prior to the accumulation of 40,000 total landings or within 30 days after July 5, 1989 (the effective date of AD 89-14-02), whichever occurs later, perform either a general visual inspection or dye penetrant inspection for cracks of the captain's and first officer's rudder pedal bracket, part numbers (P/N) 5616067 and 5616068, respectively, in accordance with McDonnell Douglas Alert Service Bulletins A27-273 (for Model DC-8-11, DC-8-12, DC-8-21, DC-8-31, DC-8-32, DC-8-33, DC-8-41, DC-8-42, and DC-8-43 airplanes; Model DC-8F-54 and DC-8F-55 airplanes; and Model DC-8-50, -60, -60F, -70, and -70F series airplanes) or A27-307 (for Model DC-9-10, -20, -30, -40, and -50 series airplanes; Model DC-9-81 (MD-81), DC-9-82 (MD-82), DC-9-83 (MD-83), and DC-9-87 (MD-87) airplanes; and Model MD-88 airplanes), as applicable, both dated May 16, 1989.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: McDonnell Douglas Alert Service Bulletins A27-273 and A27-307, both dated May 16, 1989, are hereinafter referred to as ASB A27-273 and ASB A27-307, respectively.

(1) If an initial general visual inspection is accomplished, and no cracks are found, perform a dye penetrant inspection of the rudder pedal bracket assembly within 180 days after the general visual inspection, and thereafter accomplish dye penetrant inspections at intervals not to exceed 12 months or 2,500 landings, whichever occurs earlier.

(2) If an initial dye penetrant inspection is accomplished, and no cracks are found, accomplish repetitive dye penetrant inspections at intervals not to exceed 12 months or 2,500 landings, whichever occurs earlier.

(g) If cracks are detected, prior to further flight, remove and replace the rudder pedal bracket assembly in accordance with ASB A27-273 or A27-307, as applicable. Prior to the accumulation of 40,000 total landings after replacement with the new part, resume the repetitive inspections in accordance with paragraph (f) in this AD.

New Requirements of This AD

Terminating Action for Certain Airplanes

(h) For McDonnell Douglas Model DC-9-10, -20, -30, -40, and -50 series airplanes; Model DC-9-81 (MD-81), DC-9-82 (MD-82), DC-9-83 (MD-83), DC-9-87 (MD-87) airplanes; and Model MD-88 airplanes: Do the actions in paragraphs (h)(1) and (h)(2) of this AD in accordance with the Accomplishment Instructions of McDonnell Douglas Alert Service Bulletin A27-307, Revision 6, dated December 19, 1994.

(1) Before the accumulation of 75,000 total landings on the captain's rudder pedal bracket assembly, P/N 5616067-501, or within 60 months after the effective date of this AD, whichever occurs later: Remove the rudder pedal bracket assembly and replace it with new, improved P/N 5962903-501. Accomplishment of the replacement terminates the repetitive inspections of the captain's rudder pedal bracket assembly required by paragraphs (f) and (g) of this AD.

(2) Before the accumulation of 75,000 total landings on the first officer's rudder pedal bracket assembly, P/N 5616068-501, or within 60 months after the effective date of this AD, whichever occurs later: Remove the rudder pedal bracket assembly and replace it with new, improved P/N 5962904-501. Accomplishment of the replacement terminates the repetitive inspections of the first officer's rudder pedal bracket assembly required by paragraphs (f) and (g) of this AD.

Credit for Previous Service Bulletins

(i) Actions done before the effective date of this AD in accordance with McDonnell Douglas Alert Service Bulletin A27-307, Revision 5, dated February 14, 1992; or Revision 4, dated June 3, 1991, are acceptable for compliance with the corresponding requirements of this AD.

Alternative Methods of Compliance (AMOCs)

(j)(1) The Manager, Los Angeles Aircraft Certification Office, Transport Airplane Directorate, FAA, has the authority to approve AMOCs for this AD, if requested in accordance with the procedures found in 14 CFR 39.19.

(2) AMOCs, approved previously in accordance with AD 89-14-02, amendment 39-6245, are approved as AMOCs for the corresponding requirements of this AD.

Issued in Renton, Washington, on March 22, 2005.
Ali Bahrami,
Manager, Transport Airplane Directorate, Aircraft Certification Service.

[FR Doc. 05-6679 Filed 4-4-05; 8:45 am]

BILLING CODE 4910-13-P